DEPARTMENT OF THE INTERIOR

Bureau of Reclamation

Glen Canyon Dam Adaptive Management Work Group (AMWG), Notice of Meeting

AGENCY: Bureau of Reclamation, Interior.

ACTION: Cancellation of public meeting.

SUMMARY: The Bureau of Reclamation is canceling the Adaptive Management Work Group Meeting scheduled for March 28, 2003, in Flagstaff, Arizona. At the AMWG meeting held on January 28, 2003, the Humpback Chub Ad Hoc Group (HBC AHG) was formed to consider actions to implement a comprehensive research and management program for the humpback chub in the Colorado River. As such, the HBC AHG requires additional time to complete various assignments in preparation for presentation to the AMWG.

FOR FURTHER INFORMATION CONTACT: Dennis Kubly, telephone (801) 524-3715; faxogram (801) 524-3858; or via e-mail at dkubly@uc.usbr.gov.

Dated: March 14, 2003.
Dennis Kubly,
Chief, Adaptive Management Group, Environmental Resources Division, Upper Colorado Regional Office.

[FR Doc. 03-7184 Filed 3-25-03; 8:45 am]

BILLING CODE 4310-MN-P